DEPARTMENT OF COMMERCE

International Trade Administration

[A-570-016]

Passenger Vehicle and Light Truck Tires From the People's Republic of China: Final Rescission of 2015-2016 Antidumping Duty New Shipper Review

AGENCY: Enforcement and Compliance, International Trade Administration, Department of Commerce.

SUMMARY: The U.S. Department of Commerce (the Department) determines to rescind this new shipper review (NSR) of the antidumping duty (AD) order on passenger vehicle and light truck tires (passenger tires) from the People's Republic of China (the PRC). The period of review (POR) is August 1, 2015, through January 31, 2016. The NSR covers one exporter/producer of subject merchandise, Shandong Xinghongyuan Tire Co., Ltd. (SXT).

DATES: Effective June 26, 2017.

FOR FURTHER INFORMATION CONTACT: Kaitlin Wojnar, AD/CVD Operations, Office VII, Enforcement and Compliance, International Trade Administration, U.S. Department of Commerce, 1401 Constitution Avenue NW., Washington, DC 20230; telephone: (202) 482-3857.

SUPPLEMENTARY INFORMATION:

Background

On January 31, 2017, the Department published notice of its preliminary rescission of this NSR pertaining to SXT for the period August 1, 2015, through January 31, 2016.¹ On April 12, 2017, 2016, the Department extended the deadline for the final results to June 22, 2017.² For a complete description of the events that followed publication of the Preliminary Rescission, see the Issues and Decision Memorandum, which is dated concurrently with and hereby adopted by this notice.³ The Issues and Decision Memorandum is a public document and is available electronically via Enforcement and Compliance's Antidumping and Countervailing Duty Centralized Electronic Service System (ACCESS). ACCESS is available to registered users at http://access.trade.gov and to all parties in the Central Records Unit, room B8024 of the main Department of Commerce building. In addition, a complete version of the Issues and Decision Memorandum can be accessed at http://enforcement.trade.gov/frn/. The signed Issues and Decision Memorandum and the electronic version are identical in content.

¹ See Passenger Vehicle and Light Truck Tires From the People's Republic of China: Preliminary Rescission of 2015-2016 Antidumping Duty New Shipper Review, 82 FR 8824 (January 31, 2017) (Preliminary Rescission), and accompanying Department Memorandum, “Passenger Vehicle and Light Truck Tires From the People's Republic of China: Decision Memorandum for the Preliminary Rescission of the 2015-2016 Antidumping Duty New Shipper Review,” January 23, 2017 (Preliminary Decision Memorandum).

² See Department Memorandum, “Passenger Vehicle and Light Truck Tires from the People's Republic of China: Extension of Deadline for Final Results in Antidumping Duty New Shipper Review,” April 12, 2017.

³ See Department Memorandum, “Passenger Vehicle and Light Truck Tires from the People's Republic of China: Issues and Decision Memorandum for the Final Rescission of the 2015-2016 Antidumping Duty New Shipper Review,” June 22, 2017 (Issues and Decision Memorandum).

Scope of the Order

The scope of this order covers passenger tires from the PRC. For a complete description of the scope, see the “Scope of the Order” section of the Issues and Decision Memorandum.⁴

⁴ Id. at 2-4.

Analysis of Comments Received

The Department received case and rebuttal briefs following publication of the Preliminary Rescission. All issues raised in the briefs are addressed in the Issues and Decision Memorandum.⁵ A list of topics included in the Issues and Decision Memorandum is provided at the Appendix to this notice.

⁵ Id. at 4-8.

Final Rescission of New Shipper Review

In the Preliminary Rescission, the Department announced its preliminary intent to rescind this review because SXT's request for an NSR included an inaccurately certified statement that SXT is not affiliated with any PRC exporter or producer that exported subject merchandise (i.e., passenger tires from the PRC) to the United States during the period of time examined in the original AD investigation (i.e., October 1, 2013, through March 31, 2014) and, as such, SXT had not satisfied the statutory and regulatory requirements to request an NSR.⁶ Based on the Department's complete analysis of all information and comments on the record of this review, we make no changes to our findings in the Preliminary Rescission. Accordingly, for the reasons discussed in the Preliminary Rescission and the Issues and Decision Memorandum, we have determined to rescind this NSR with respect to SXT.⁷

⁶ See Preliminary Decision Memorandum at 5-8; see also Letter from SXT, “Certain Passenger Vehicle and Light Truck Tires from the People's Republic of China: New Shipper Review Request,” February 25, 2016, at Exhibit 2 (certifying that “since the investigation was initiated, {SXT} has never been affiliated with any exporter or producer who exported the subject merchandise to the United States during the period of investigation including those not individually examined during the investigation”).

⁷ See Preliminary Rescission, 82 FR at 8824; see also Preliminary Decision Memorandum at 3-8; Issues and Decision Memorandum.

Assessment

Because the Department is rescinding this NSR, we have not calculated a company-specific dumping margin for SXT. SXT's entries during the POR will be assessed at the cash deposit rate required at the time of entry, which is the “PRC-wide” rate (i.e., 76.46 percent).

Cash Deposit Requirements

Effective upon publication of this notice of the final rescission of this NSR, the Department will instruct U.S. Customs and Border Protection to require a cash deposit for entries of subject merchandise from SXT. The following cash deposit requirements will be effective upon publication of this rescission for all shipments of subject merchandise from SXT entered, or withdrawn from warehouse, for consumption on or after the publication date, as provided for by section 751(a)(2)(C) of the Tariff Act of 1930, as amended (the Act): (1) For subject merchandise produced and exported by SXT, the cash deposit rate will continue to be the all-others rate (i.e., 76.46 percent); (2) for subject merchandise exported by SXT but not manufactured by SXT, the cash deposit rate will continue to be the all-others rate (i.e., 76.46 percent); and (3) for subject merchandise manufactured by SXT but exported by any other party, the cash deposit rate will be the rate applicable to the exporter. These cash deposit requirements, when imposed, shall remain in effect until further notice.

Notification to Importers

This notice serves as a final reminder to importers of their responsibility under 19 CFR 351.402(f)(2) to file a certificate regarding the reimbursement of antidumping duties prior to liquidation of the relevant entries during this POR. Failure to comply with this requirement could result in the Department's presumption that reimbursement of antidumping duties occurred and the subsequent assessment of double antidumping duties.

Administrative Protective Orders

This notice serves as a reminder to parties subject to administrative protective order (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This Department is issuing and publishing these results in accordance with sections 751(a)(2)(B) and 771(i)(1) of the Act and 19 CFR 351.214 and 19 CFR 351.221(b)(5).

Dated: June 20, 2017.
Ronald K. Lorentzen,
Acting Assistant Secretary for Enforcement and Compliance.

Appendix

List of Topics Discussed in the Issues and Decision Memorandum

I. Summary

II. Background

III. Scope of the Order

IV. Discussion of the Issues

Issue 1: Acceptance of Unverified Submissions as “Complete and Accurate”

Issue 2: Evidence of Xingyuan Group's Exports During the POI

V. Recommendation

[FR Doc. 2017-13287 Filed 6-23-17; 8:45 am]

BILLING CODE 3510-DS-P